DEPARTMENT OF HOMELAND SECURITY

[Docket No. DHS-2014-0003]

Homeland Security Science and Technology Advisory Committee (HSSTAC)

AGENCY: Science and Technology Directorate, DHS.

ACTION: Committee Management; notice of partially closed Federal Advisory Committee Meeting.

SUMMARY: The Homeland Security Science and Technology Advisory Committee (HSSTAC) will meet on April 7-8, 2014, in Washington, DC. The meeting will be partially closed to the public.

DATES: The HSSTAC will meet Monday, April 7, 2014, from 9:00 a.m. to 4:00 p.m. and Tuesday, April 8, 2014 from 9:00 a.m. to 4:00 p.m. The meeting may close early if the committee has completed its business.

ADDRESSES: The meeting will be held at the Department of Homeland Security (DHS), Science and Technology Directorate, 1120 Vermont Avenue NW. (Room 8 ABC), Washington, DC 20005.

All visitors must pre-register and present a government-issued ID in order to gain entry to the building. To register, please contact the person listed under FOR FURTHER INFORMATION CONTACT, below. Please provide your name, citizenship, organization (if any), title (if any), email address (if any), and telephone number.

For information on facilities or services for individuals with disabilities or to request special assistance at the meeting, contact the person listed under FOR FURTHER INFORMATION CONTACT, below.

Materials that are provided to committee members during the open portions of the meeting will also be provided to the public. Go to this url: http://www.dhs.gov/st-hsstac and click on the meeting dates to access the meeting briefings. To facilitate public participation, we invite public comment on the issues to be considered by the committee as listed in the “Supplementary Information” below. Comments may be submitted orally, in writing, or both. If submitting in writing, please include the docket number (DHS-2014-0003) and submit via one of the following methods before April 4, 2014:

• Federal eRulemaking Portal: http://www.regulations.gov. Follow the instructions for submitting comments.

• Email: mary.hanson@hq.dhs.gov. Include the docket number in the subject line of the message.

• Fax: 202-254-6176.

• Mail: Mary Hanson, HSSTAC Executive Director, Science and Technology Directorate, Department of Homeland Security, 245 Murray Lane, Bldg. 410, Washington, DC 20528-0205. Instructions: All submissions received must include the words “Department of Homeland Security” and the docket number. Comments received will be posted without alteration at http://www.regulations.gov, including any personal information provided.

Docket: For access to the docket to read background documents or comments received by the HSSTAC, go to http://www.regulations.gov and type the docket number (DHS-2014-0003) into the “SEARCH for: Rules, Comments, Adjudications or Supporting Documents:” field in the middle of the Web site. A period is allotted for oral public comment on April 7 and 8, 2014, before any recommendations are formulated. Speakers are asked to pre-register and limit their comments to three minutes or less. Please note that the public comment period may end before the time indicated, following the last call for comments. To register as a speaker, contact the person listed below.

FOR FURTHER INFORMATION CONTACT: Mary Hanson, HSSTAC Executive Director, Science and Technology Directorate, Department of Homeland Security, 245 Murray Lane, Bldg. 410, Washington, DC 20528-0205, Office: 202-254-5866, Fax: 202-254-5823, email: mary.hanson@hq.dhs.gov.

SUPPLEMENTARY INFORMATION: Notice of this meeting is given under the Federal Advisory Committee Act (FACA), 5 U.S.C. Appendix 2 (Pub. L. 92-463). The HSSTAC was established under 6 U.S.C. Section 450, and operates in accordance with the provisions of the FACA. The committee addresses areas of interest and importance to the Under Secretary for Science and Technology, such as new developments in systems engineering, cyber-security, knowledge management and how best to leverage related technologies funded by other federal agencies and by the private sector. It also advises the Under Secretary on policies, management processes, and organizational constructs as needed.

Agenda: The committee will convene in open session to meet with the Acting Under Secretary and other executives of the DHS Science and Technology Directorate (DHS S&T) to hear updates, discuss areas of concern, and receive taskings. Agenda items on April 7 focus solely on the interaction between DHS S&T and U.S. Immigration and Customs Enforcement (ICE). An official from ICE will first give an ICE overview, followed by a discussion among officials from ICE and DHS S&T about ICE's technology needs, how DHS S&T supports those needs, and how that support can be improved. A public comment period will follow the discussion. The committee will then receive its tasking from DHS S&T and begin to develop recommendations regarding how DHS S&T can better support ICE. The agenda on April 8 will include an update and discussion regarding the DHS S&T Cyber Security Division (CSD), followed by briefs about two DHS S&T projects: Apex Air Entry/Exit Re-Engineering (AEER), a project managed by the DHS S&T Homeland Security Advanced Research Projects Agency (HSARPA), which aims to biometrically verify that a foreign national who enters the U.S. is the same one who exits; and Project Responder, a project managed by the DHS S&T First Responder Group, which aims to systematically identify capability gaps for responding to catastrophic incidents. A public comment period will follow those briefs. The committee will meet in closed session from 1 p.m. to 4 p.m. on April 8, 2014, to receive a classified brief regarding emerging and disruptive technologies and technology trends (including the use of Intelligence, Surveillance, and Reconnaissance (ISR)) and to hear an update from the Task Force on Third Party Pre-Screening regarding its progress on helping TSA to expedite physical screening by exploring private sector options; the results of private sector testing and evaluation; and methodologies to determine eligibility for pre-screening. The task force update includes security sensitive information (SSI) and/or trade secrets and confidential/proprietary commercial information.

Basis for Closure: In accordance with Subsection (d) of Section 10 of the Federal Advisory Committee Act (5 U.S.C. Appendix 2), it has been determined that certain portions of the meeting require closure as the disclosure of the information would not be in the public interest. This action is determined appropriate because disclosure of such information is likely to reveal matters that are authorized to be kept secret in the interests of national defense (5 U.S.C. 552b(c)(1)), or are specifically exempted from disclosure by statute (5 U.S.C. 552b(c)(3)), or that may disclose trade secrets and commercial information that is privileged or confidential (5 U.S.C. 552b(c)(4)). Consistent with 5 U.S.C. 552b(c)(1), (c)(3), and (c)(4), this segment of the meeting will be closed to avoid disclosure of information that is specifically exempt from disclosure by statute, regulation, or Executive Order. The classified briefing contains classified information protected under Executive Order 13526 “Classified National Security Information” and the update from the Task Force on Third Party Pre-Screening includes SSI protected pursuant to the SSI Federal Regulation (49 CFR part 1520) as well as business confidential and proprietary information.

Accordingly, this meeting will be partially closed to the public.

Dated: March 4, 2014.
Daniel M. Gerstein,
Under Secretary for Science and Technology (Acting).

[FR Doc. 2014-05995 Filed 3-18-14; 8:45 am]

BILLING CODE 9910-9F-P